DEPARTMENT OF HEALTH AND HUMAN SERVICES

Centers for Disease Control and Prevention

National Vaccine Advisory Committee, Subcommittee on Vaccine Safety and Communication Meeting

In accordance with section 10(a)(2) of the Federal Advisory Committee Act (Pub. L. 92-463), the Centers for Disease Control and Prevention (CDC) announces the following Federal advisory Subcommittee meeting.

NAME: National Vaccine Advisory Committee (NVAC) Subcommittee on Vaccine Safety and Communications.

TIME AND DATE: 2 p.m.—5 p.m., June 5, 2001.

PLACE: Hubert H. Humphrey Building, Room 800, 200 Independence Avenue, SW, Washington, DC 20201.

STATUS: Open to the public, limited only by the space available.

NOTICE: In the interest of security, the Department has instituted stringent procedures for entrance to the Hubert H. Humphrey Building by non-government employees. Thus, persons without a government identification card should plan to arrive at the building between 12:30 p.m. and 1 p.m. Entrance to the meeting at other times during the day cannot be assured.

STATUS: Open to the public, limited only by the space available.

PURPOSE: This Subcommittee reviews issues relevant to vaccine safety and adverse reactions to vaccines.

MATTERS TO BE DISCUSSED: Review of the agenda; review of National Infant Immunization Week; discussion on strengthening the vaccine supply; follow-up to the “Workshop on Vaccine Communications'; review of the Institute of Medicine's (IOM) report on Measles-Mumps-Rubella Vaccine and Autism, discussion of the process for suggesting and selecting immunization safety issues for review by the IOM in 2002; public comment on immunization safety issues for review in 2002; and committee discussion.

Special Note: The Subcommittee on Vaccine Safety and Communications will provide a forum for input from the public regarding potential issues and topics for review in 2002 by the IOM's Immunization Safety Review Committee. This will be the first opportunity for the public to provide comments on the hypotheses that are being considered for future review.

Agenda items are subject to change as priorities dictate. A complete meeting agenda of the Subcommittee on Vaccine Safety and Communications can be found on the National Vaccine Program Office's web site at www.cdc.gov/od/nvpo/calendar.

CONTACT PERSON FOR MORE INFORMATION: Ms. Shaunette Crawford, Associate Director for Health Communications and Legislation, NVPO, CDC, 1600 Clifton Road, NE, M/S D-66, Atlanta, Georgia 30333, telephone 404/687-6672.

The Director, Management Analysis and Services Office, has been delegated the authority to sign Federal Register Notices pertaining to announcements of meetings and other committee management activities, for both the Centers for Disease Control and Prevention and the Agency for Toxic Substances and Disease Registry.

Dated: May 1, 2001.
John Burckhardt,
Acting Director, Management Analysis and Services Office, Centers for Disease Control and Prevention.

[FR Doc. 01-11371 Filed 5-4-01; 8:45 am]

BILLING CODE 4163-18-P